DEPARTMENT OF COMMERCE

Foreign-Trade Zones Board

[Docket 47-2010]

Foreign-Trade Zone 202—Los Angeles, CA; Application for Expansion

An application has been submitted to the Foreign-Trade Zones Board (the Board) by the Board of Harbor Commissioners of the City of Los Angeles, grantee of FTZ 202, requesting authority to expand FTZ 202 to include a site in Los Angeles, California. The application was submitted pursuant to the provisions of the Foreign-Trade Zones Act, as amended (19 U.S.C. 81a-81u), and the regulations of the Board (15 CFR part 400). It was formally filed on July 30, 2010.

FTZ 202 was approved on July 14, 1994 (Board Order 693, 59 FR 37464, 7/22/94), and expanded or reorganized on August 26, 1996 (Board Order 842, 61 FR 46763, 9/5/96), on July 9, 1999 (Board Order 1043, 64 FR 38887, 7/20/99), on April 30, 2004 (Board Order 1331, 69 FR 26065, 5/11/04) and on April 24, 2009 (Board Order 1616, 74 FR 21623, 5/8/09).

The zone project currently consists of 15 permanent and temporary sites located at port facilities, industrial parks and warehouse facilities in Los Angeles, San Bernardino, Kern and Riverside Counties as described below:

• Site 1 (2,783 acres total)—consists of the Port of Los Angeles Harbor Complex in San Pedro;

• Site 2 (3 acres total)—located at 1 World Way within the Los Angeles International Airport (Parcel 1—1 acre); at 5330 W. 102nd Street, Los Angeles (Parcel 2—1.5 acres); and, at 1111 Watson Center Road, Unit 2-A, B-C, Carson (Parcel 3—22,705 sq. ft.);

• Site 3 (564 acres)—within the International Trade & Technology Center, Santa Fe Highway at 7th Standard Road, Kern County;

• Site 4 (353.6 acres)—within the 438-acre Carson Dominguez Technology Center south of the Artesia Freeway, between the Harbor Freeway and I-710 in the City of Carson and the Rancho Dominguez area of Los Angeles County;

• Site 5 (8.51 acres total, sunset 4/30/2014)—warehouse facilities of 3Plus Logistics located at 20250 South Alameda Street, Rancho Dominguez (6.13 acres) and at 2730 El Presidio Street, Carson (2.38 acres);

• Site 6 (23 acres)—located at 20002 E. Business Parkway, Walnut;

• Site 7 (93 acres)—within the 140-acre Pacific Gateway Center, at the southwest corner of the San Diego Freeway Interchange, Los Angeles;

• Site 9 (22.87 acres total)—located at 19700 Van Ness Avenue, Torrance (Parcel A, 15.61 acres); and at 1451 Knox Street, Torrance (Parcel C, 7.26 acres);

• Site 10 (325 acres)—Watson Industrial Center South, 22010 South Wilmington Avenue, Carson;

• Site 11 (153.79 acres)—Watson Corporate Center located at 22010 South Wilmington Avenue and at 2417 East Carson Street, Carson;

• Site 12 (8 acres, expires 7/31/2011)—Schafer Brothers Distribution Center, Inc., 1981 East 213th Street, Carson;

• Site 14 (33 acres, expires 7/31/2011)—Nippon Express USA, Inc., located adjacent to Site 1, at 300 Westmont Street, San Pedro;

• Site 15 (4 acres)—located at 1020 McFarland Avenue, Wilmington;

• Site 20 (21 acres, expires 7/31/2011)—Kwikset Corporation facilities located within Park Mira Loma West, southeast side of the Intersection of Highway 60 (Pomona Freeway) and Interstate 15 (Ontario Freeway), Mira Loma; and,

• Temporary Site 2 (2.4 acres, expires 6/30/2011)—a warehouse located at 2200 and 2250 Technology Place, Long Beach.

There is an application currently pending requesting to expand and reorganize FTZ 202 (Doc. 57-2009, 74 FR 67172-67173, 12/18/2009). The proposal includes a request for new authority for expired sites/parcels, to delete an existing site, for permanent status for temporary sites, and to add a new site.

The applicant is now requesting authority to expand the zone to include an additional site in Los Angeles: Proposed Site 25 (665.5 acres)—to include the jet fuel storage and distribution system located at the Los Angeles International Airport as well as related off-site facilities. The proposed site would be as follows: the Los Angeles International Airport jet-fuel storage tanks and delivery system (24 acres), 9900 LAXFUEL Road, Los Angeles; the Kinder Morgan Carson Terminal and pipelines (119.3 acres), 2000 E. Sepulveda Boulevard, Carson; the Exxon-Mobile pipeline (14.1 acres); the Shell Carson Terminal (450 acres), 20945 S. Wilmington Avenue, Carson; Shell pipelines #24 and #26 (9.2 acres); Shell pipeline #6 (22.9 acres); the Vopak Marine Terminal and pipeline (24.6 acres), 2200 E. Pacific Coast Highway, Wilmington; and, the Vopak/Kinder Morgan pipeline (1.4 acres). These facilities consist primarily of storage tanks, pipelines, pumps, valves, filters, meters and related equipment. The system is operated by LAXFUEL Corporation and will be used to provide jet fuel to airlines serving the Los Angeles International Airport. No specific manufacturing authority is being requested at this time. Such requests would be made to the Board on a case-by-case basis.

In accordance with the Board's regulations, Christopher Kemp of the FTZ Staff is designated examiner to evaluate and analyze the facts and information presented in the application and case record and to report findings and recommendations to the Board.

Public comment is invited from interested parties. Submissions (original and 3 copies) shall be addressed to the Board's Executive Secretary at the address below. The closing period for their receipt is October 5, 2010. Rebuttal comments in response to material submitted during the foregoing period may be submitted during the subsequent 15-day period to October 20, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Christopher Kemp at Christopher.Kemp@trade.gov or (202) 482-0862.

Dated: July 30, 2010.
Andrew McGilvray,
Executive Secretary.

[FR Doc. 2010-19463 Filed 8-5-10; 8:45 am]

BILLING CODE P